DEPARTMENT OF JUSTICE

Notice of Lodging of Partial Consent Decree Under the Comprehensive Environmental Response, Compensation and Liability Act (“CERCLA”)

Consistent with Departmental policy, 28 CFR 50.7, 38 FR 19029, and 42 U.S.C. 962(d) notice is hereby given that on May 25, 2004, a proposed Partial Consent Decree in United States v. FMC Corporation, et al., Civil Action No. 01-0476(KSH), was lodged with the United States District Court for the District of New Jersey.

In this action the United States seeks recovery of response costs pursuant to Section 107(a) of CERCLA, for costs incurred related to the Higgins Disposal Superfund Site in Kingston, New Jersey. Subsequent to the filing of the Complaint, the U.S. Environmental Protection Agency issued an Explanation of Significant Difference (“ESD”). The ESD revised the second component of the remedial action selected in the 1997 Record of Decision to the installation of an on-site ground water extraction and reinjection system. The Partial Consent Decree requires Defendant FMC Corporation to design, construct and operate the on-site ground water extraction and reinjection system for the Higgins Disposal Superfund Site. The Partial Consent Decree preserves the United States' claims for past and future costs.

The Department of Justice will receive for a period of thirty (30) days from the date of this publication comments relating to the Partial Consent Decree. Comments should be addressed to the Assistant Attorney General, Environment and Natural Resources Division, P.O. Box 7611, U.S. Department of Justice, Washington, DC 20044-7611, and should refer to United States v. FMC Corporation, et al., D.J. Ref. #90-11-3-1486/2.

The Partial Consent Decree may be examined at U.S. EPA Region II, 290 Broadway, New York, New York 10007-1866 (contact Deborah Schwenk). During the public comment period, the Partial Consent Decree, may also be examined on the following Department of Justice Web site, http://www.usdoj.gov/enrd/open.html. A copy of the Partial Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the U.S. Treasury.

Ronald G. Gluck,
Assistant Chief, Environmental Enforcement Section, Environment and Natural Resources Division.

[FR Doc. 04-13047 Filed 6-8-04; 8:45 am]

BILLING CODE 4410-15-M